DEPARTMENT OF TRANSPORTATION

Federal Aviation Administration

14 CFR Part 71

[Docket No. FAA-2008-1026; Airspace Docket No. 08-AEA-17]

Establishment of Area Navigation Route Q-42; East-Central United States

AGENCY: Federal Aviation Administration (FAA), DOT.

ACTION: Final rule.

SUMMARY: This action establishes a high altitude area navigation (RNAV) route, designated Q-42, extending between the New York-Philadelphia area and the Kirksville, MO, very high frequency omnidirectional range/tactical air navigation (VORTAC) facility. The route will streamline RNAV procedures in the east-central United States by creating a route parallel to the existing Jet Route J-80. This action will help alleviate departure delay issues for westbound aircraft flying from the New York and Philadelphia areas.

DATES: Effective Date: 0901 UTC, August 27, 2009. The Director of the Federal Register approves this incorporation by reference action under 1 CFR part 51, subject to the annual revision of FAA Order 7400.9 and publication of conforming amendments.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

History

On Wednesday, January 21, 2009, the FAA published in the Federal Register a notice of proposed rulemaking to establish area navigation route Q-42 (74 FR 3468). Interested parties were invited to participate in this rulemaking effort by submitting written comments on the proposal. No comments were received.

In the NPRM, the latitude/longitude for the MAALS waypoint was listed as lat. 40°19′16″ N., long. 76°16′08″ W. The position has since been updated in the National Airspace System Resources (NASR) database as lat. 40°19′19″; N., long. 76°16′11″ W. This is a minor refinement of the position that does not alter the alignment of the route.

With the exception of the editorial change discussed above, this amendment is the same as that proposed in the NPRM.

The Rule

This action amends Title 14 Code of Federal Regulations (14 CFR) part 71 by establishing high altitude area navigation route Q-42 between the Kirksville, MO, VORTAC and the ELIOT, PA, navigation fix. The new route will enhance the flow of air traffic in a major transit corridor, parallel to J-80, and traversing airspace assigned to the New York, Cleveland, Indianapolis, Chicago and Kansas City Air Route Traffic Control Centers.

High altitude RNAV routes are published in paragraph 2006 of FAA Order 7400.9S signed October 3, 2008 and effective October 31, 2008, which is incorporated by reference in 14 CFR 71.1. The RNAV route listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends a portion of the en route structure to enhance the safe and efficient use of the NAS in the East-Central United States.

Environmental Review

The FAA has determined that this action qualifies for categorical exclusion under the National Environmental Policy Act in accordance with FAA Order 1050.1E, “Environmental Impacts: Policies and Procedures,” paragraph 311a and 311b. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9S, Airspace Designations and Reporting Points, dated October 3, 2008 and effective October 31, 2008, is amended as follows:

Paragraph 2006 United States Area Navigation Routes.

* * * * *

Q-42 Kirksville, MO (IRK) to ELIOT, PA [New]
IRK | VORTAC | (Lat. 40°08′06″ N., long. 92°35′30″ W.)
STRUK | WP | (Lat. 40°14′04″ N., long. 90°18′22″ W.)
DNV | VORTAC | (Lat. 40°17′38″ N., long. 87°33′26″ W.)
MIE | VOR/DME | (Lat. 40°14′14″ N., long. 85°23′39″ W.)
HIDON | WP | (Lat. 40°10′00″ N., long. 81°37′27″ W.)
BUBAA | WP | (Lat. 40°10′27″ N., long. 80°58′17″ W.)
PSYKO | WP | (Lat. 40°08′37″ N., long. 79°09′13″ W.)
BRNAN | WP | (Lat. 40°08′07″ N., long. 77°50′07″ W.)
MAALS | WP | (Lat. 40°19′19″ N., long. 76°16′11″ W.)
SUZIE | WP | (Lat. 40°27′12″ N., long. 75°58′22″ W.)
ETX | VOR/DME | (Lat. 40°34′52″ N., long. 75°41′02″ W.)
ELIOT | WP | (Lat. 40°49′07″ N., long. 75°07′48″ W.)

* * * * *

Issued in Washington, DC, on June 24, 2009.
Edith V. Parish,
Manager, Airspace and Rules Group.

[FR Doc. E9-15340 Filed 6-29-09; 8:45 am]

BILLING CODE 4910-13-P